DEPARTMENT OF VETERANS AFFAIRS

Privacy Act of 1974; System of Records

AGENCY: Department of Veterans Affairs (VA), Office of General Counsel (OGC).

ACTION: Rescindment of a system of records.

SUMMARY: In accordance with the Privacy Act of 1974, the Department of Veterans Affairs (VA), is giving notice of its intent to rescind the Privacy Act system of records. “Claimant Private Relief Legislative Files-VA” (06VA026), from its existing inventory. During a review of VA system of records notices, it was determined that this system of records notice is no longer necessary as the records in the system, which reported the introduction, documentation, and passage of private relief bills on behalf of Veterans, their beneficiaries, and their dependents, are covered under the General Counsel Legal Automation Workload System (GCLAWS)-VA (144VA026) system of records notice. This rescindment will promote the overall streamlining and management of the VA Privacy Act system of records.

DATES: Comments on this rescindment notice must be received no later than 30 days after date of publication in the Federal Register. If no public comment is received during the period allowed for comment or unless otherwise published in the Federal Register by VA, the rescindment will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to “Claimant Private Relief Legislative Files-VA” (06VA026). Comments received will be available at regulations.gov for public viewing, inspection or copies.

FOR FURTHER INFORMATION CONTACT: For submitting general questions about the discontinued system please direct correspondence to OGC Management, Planning and Analysis, Knowledge Management at: OGCMPAKM@va.gov and Sharon Weiner, 810 Vermont Ave. NW, Washington, DC 20420; telephone (202) 316-7157 (This is not a toll-free number).

SUPPLEMENTARY INFORMATION: Pursuant to the provisions of the Privacy Act of 1974, as amended, 5 U.S.C. 552a, VA is rescinding the 06VA026, Claimant Private Relief Legislative Files, system of records notice because it is no longer needed as the records are covered under VA 144VA026, General Counsel Legal Automation Workload System (GCLAWS) (September 19, 2007). Private relief legislation has been used to bring relief to those who have suffered a bona fide loss but have no recourse through the existing legal system at that time. The system includes bills, Congressional reports, agency reports, testimony, and copies of remarks made in Congress in support of the bill. Most of the files contain legislation granting individuals relief in situations that currently would be handled through the statutory process for administrative error and equitable relief (described at 38 U.S.C. 503) or the submission of a claim pursuant to the Federal Tort Claims Act and there are no longer any files maintained in connection with this system.

Rescinding the, Claimant Private Relief Legislative Files-VA (06VA026) system of records notice will have no adverse impacts on individuals as any legacy information associated with 06VA026 inadvertently maintained will be located within General Counsel Legal Automation Workload System (GCLAWS)-VA (144VA026) and any newly filed private relief bills will also be maintained within (GCLAWS). This rescindment will also promote management and streamlining of VA Privacy Act systems of records.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on May 9, 2022 for publication.

Dated: May 10, 2022.
Amy L. Rose,
Program Analyst, VA Privacy Service, Office of Information Security, Office of Information and Technology, Department of Veterans Affairs.

SYSTEM NAME AND NUMBER:

“Claimant Private Relief Legislative Files-VA” (06VA026).

HISTORY:

73 FR 74575 last published on December 8, 2008.

[FR Doc. 2022-10385 Filed 5-12-22; 8:45 am]

BILLING CODE P